DEPARTMENT OF TRANSPORTATION

National Highway Traffic Safety Administration

[Docket No. NHTSA-2010-0078]

Decision That Certain Nonconforming Motor Vehicles Are Eligible for Importation

AGENCY: National Highway Traffic Safety Administration (NHTSA), Department of Transportation.

ACTION: Notice of decision by NHTSA that certain nonconforming motor vehicles are eligible for importation.

SUMMARY: This document announces decisions by NHTSA that certain motor vehicles not originally manufactured to comply with all applicable Federal Motor Vehicle Safety Standards (FMVSS) are eligible for importation into the United States because they are substantially similar to vehicles originally manufactured for sale in the United States and certified by their manufacturers as complying with the safety standards, and they are capable of being readily altered to conform to the standards or because they have safety features that comply with, or are capable of being altered to comply with, all applicable FMVSS.

DATES: These decisions became effective on the dates specified in Annex A.

FOR FURTHER INFORMATION CONTACT: Coleman Sachs, Office of Vehicle Safety Compliance, NHTSA (202-366-3151).

SUPPLEMENTARY INFORMATION:

Background

Under 49 U.S.C. 30141(a)(1)(A), a motor vehicle that was not originally manufactured to conform to all applicable FMVSS shall be refused admission into the United States unless NHTSA has decided that the motor vehicle is substantially similar to a motor vehicle originally manufactured for importation into and/or sale in the United States, certified under 49 U.S.C. 30115, and of the same model year as the model of the motor vehicle to be compared, and is capable of being readily altered to conform to all applicable FMVSS.

Where there is no substantially similar U.S.-certified motor vehicle, 49 U.S.C. 30141(a)(1)(B) permits a nonconforming motor vehicle to be admitted into the United States if its safety features comply with, or are capable of being altered to comply with, all applicable FMVSS based on destructive test data or such other evidence as NHTSA decides to be adequate.

Petitions for eligibility decisions may be submitted by either manufacturers or importers who have registered with NHTSA pursuant to 49 CFR part 592. As specified in 49 CFR 593.7, NHTSA publishes notices in the Federal Register of each petition that it receives, and affords interested persons an opportunity to comment on the petition. At the close of the comment period, NHTSA decides, on the basis of the petition and any comments that it has received, whether the vehicle is eligible for importation. The agency then publishes this decision in the Federal Register.

NHTSA received petitions from registered importers to decide whether the vehicles listed in Annex A to this notice are eligible for importation into the United States. To afford an opportunity for public comment, NHTSA published notices of these petitions as specified in Annex A. The reader is referred to those notices for a thorough description of the petitions. No substantive comments were received in response to these notices. Based on its review of the information submitted by the petitioners, NHTSA has decided to grant the petitions.

Vehicle Eligibility Number for Subject Vehicles

The importer of a vehicle admissible under any final decision must indicate on the form HS-7 accompanying entry the appropriate vehicle eligibility number indicating that the vehicle is eligible for entry. Vehicle eligibility numbers assigned to vehicles admissible under this decision are specified in Annex A.

Final Decision

Accordingly, on the basis of the foregoing, NHTSA hereby decides that each motor vehicle listed in Annex A to this notice, which was not originally manufactured to comply with all applicable FMVSS, is either substantially similar to a motor vehicle manufactured for importation into and/or sale in the United States, and certified under 49 U.S.C. 30115, as specified in Annex A, and is capable of being readily altered to conform to all applicable FMVSS or has safety features that comply with, or is capable of being altered to comply with, all applicable Federal Motor Vehicle Safety Standards.

Authority: 49 U.S.C. 30141(a)(1)(A), (a)(1)(B) and (b)(1); 49 CFR 593.8; delegations of authority at 49 CFR 1.50 and 501.8.

Issued on: June 9, 2010.
Claude H. Harris,
Director, Office of Vehicle Safety Compliance.

Annex A

Nonconforming Motor Vehicles Decided To Be Eligible for Importation

1. Docket No. NHTSA-2010-0045

Nonconforming Vehicles: 2006-2007 Mercedes Benz G-Class Long Wheelbase Multi-Purpose Passenger Vehicle.

Substantially Similar U.S. Certified Vehicles: 2006-2007 Mercedes Benz G-Class Long Wheelbase Multi-Purpose Passenger Vehicle.

Notice of Petition

Published at: 75 FR 19461 (April 14, 2010).

Vehicle Eligibility Number: VSP-527. (Effective date May 25, 2010.)

2. Docket No. NHTSA-2010-0031

Nonconforming Vehicles: 1991 Porsche 911 Series Passenger Cars.

Substantially Similar U.S. Certified Vehicles: 1991 Porsche 911 Series Passenger Cars.

Notice of Petition

Published at: 75 FR 14484 (March 25, 2010).

Vehicle Eligibility Number: VSP-526. (Effective date May 20, 2010.)

3. Docket No. NHTSA-2009-0191

Nonconforming Vehicles: 2005-2006 Mercedes Benz S Class Passenger Cars Manufactured Before September 1, 2006.

Substantially Similar U.S. Certified Vehicles: 2005-2006 Mercedes Benz S Class Passenger Cars Manufactured Before September 1, 2006.

Notice of Petition

Published at: 75 FR 1117 (January 8, 2010).

Vehicle Eligibility Number: VSP-525. (Effective date February 22, 2010.)

4. Docket No. NHTSA-2009-193

Nonconforming Vehicles: 2001-2002 Ducati MH900E Motorcycles.

Substantially Similar U.S. Certified Vehicles: 2001-2002 Ducati MH900E Motorcycles.

Notice of Petition

Published at: 75 FR 1681 (January 12, 2010).

Vehicle Eligibility Number: VSP-524. (Effective date February 22, 2010.)

5. Docket No. NHTSA-2009-0169

Nonconforming Vehicles: 1994-1999 Bimota SB6 Motorcycles.

Substantially Similar U.S. Certified Vehicles: 1994-1999 Bimota SB6 Motorcycles.

Notice of Petition

Published at: 74 FR 57734 (November 9, 2009).

Vehicle Eligibility Number: VSP-523. (Effective date December 29, 2009.)

6. Docket No. NHTSA-2009-0161

Nonconforming Vehicles: 2009 Harley Davidson FX, FL, XL and VR Series Motorcycles.

Substantially Similar U.S. Certified Vehicles: 2009 Harley Davidson FX, FL, XL and VR Series Motorcycles.

Notice of Petition

Published at: 74 FR 51943 (October 8, 2009).

Vehicle Eligibility Number: VSP-522. (Effective date November 18, 2009.)

7. Docket No. NHTSA-2009-0148

Nonconforming Vehicles: 2003-2006 Mercedes Benz C Class (W203 Chassis) Passenger Cars Manufactured Before September 1, 2006.

Substantially Similar U.S. Certified Vehicles: 2003-2006 Mercedes Benz C Class (W203 Chassis) Passenger Cars Manufactured Before September 1, 2006.

Notice of Petition

Published at: 74 FR 42734 (August 24, 2009).

Vehicle Eligibility Number: VSP-521. (Effective date October 20, 2009.)

8. Docket No. NHTSA-2009-0102

Nonconforming Vehicles: 2006 BMW M3 Passenger Cars Manufactured Before September 1, 2006.

Substantially Similar U.S. Certified Vehicles: 2006 BMW M3 Passenger Cars Manufactured Before September 1, 2006.

Notice of Petition

Published at: 74 FR 26762 (June 3, 2009).

Vehicle Eligibility Number: VSP-520. (Effective date July 29, 2009.)

9. Docket No. NHTSA-2009-0101

Nonconforming Vehicles: 2006 Porsche Cayenne Multipurpose Passenger Vehicles Manufactured Before September 1, 2006.

Substantially Similar U.S. Certified Vehicles: 2006 Porsche Cayenne Multipurpose Passenger Vehicles Manufactured Before September 1, 2006.

Notice of Petition

Published at: 74 FR 26764 (June 3, 2009).

Vehicle Eligibility Number: VSP-519. (Effective date July 29, 2009.)

10. Docket No. NHTSA-2009-0094

Nonconforming Vehicles: 2006 Ferrari 599 Passenger Cars Manufactured Before September 1, 2006.

Substantially Similar U.S. Certified Vehicles: 2006 Ferrari 599 Passenger Cars Manufactured Before September 1, 2006.

Notice of Petition

Published at: 74 FR 24895 (May 26, 2009).

Vehicle Eligibility Number: VSP-518. (Effective date July 7, 2009.)

11. Docket No. NHTSA-2009-0067

Nonconforming Vehicles: 2008 Harley Davidson FX, FL, XL and VR Series Motorcycles.

Substantially Similar U.S. Certified Vehicles: 2008 Harley Davidson FX, FL, XL and VR Series Motorcycles.

Notice of Petition

Published at: 74 FR 18036 (April 20, 2009).

Vehicle Eligibility Number: VSP-517. (Effective date May 27, 2009.)

12. Docket No. NHTSA-2009-0212

Nonconforming Vehicles: 2007 Chevrolet Trailblazer Multipurpose Passenger Vehicle Manufactured Before September 1, 2007, for sale in Kuaiti Market.

Substantially Similar U.S. Certified Vehicles: 2007 Chevrolet Trailblazer Multipurpose Passenger Vehicle Manufactured Before September 1, 2007.

Notice of Petition

Published at: 74 FR 1276 (January 12, 2009).

Vehicle Eligibility Number: VSP-514. (Effective date February 18, 2009.)

13. Docket No. NHTSA-2008-0186

Nonconforming Vehicles: 2005-2006 Porsche 911 Carrera Cabriolet Passenger Cars Manufactured Before September 1, 2006.

Substantially Similar U.S. Certified Vehicles: 2005-2006 Porsche 911 Carrera Cabriolet Passenger Cars Manufactured Before September 1, 2006.

Notice of Petition

Published at: 73 FR 75172 (December 10, 2008).

Vehicle Eligibility Number: VSP-513. (Effective date January 16, 2009.)

14. Docket No. NHTSA-2008-0139

Nonconforming Vehicles: 2005-2006 Mercedes Benz SLK Class (171 Chassis) Passenger Cars.

Substantially Similar U.S. Certified Vehicles: 2005-2006 Mercedes Benz SLK Class (171 Chassis) Passenger Cars.

Notice of Petition

Published at: 73 FR 51550 (September 3, 2008).

Vehicle Eligibility Number: VSP-511. (Effective date October 14, 2008.)

15. Docket No. NHTSA-2010-0014

Nonconforming Vehicles: 2009 AL-SPAW EMA Mobile Stage Trailers.

Because there are no substantially similar U.S.-certified version 2009 AL-SPAW EMA Mobile Stage Trailers, the petitioner sought import eligibility under 49 U.S.C. 30141 (a) (1) (B).

Notice of Petition

Published at: 75 FR 9019 (February 26, 2010).

Vehicle Eligibility Number: VCP-42. (Effective date April 6, 2010.)

[FR Doc. 2010-14565 Filed 6-16-10; 8:45 am]

BILLING CODE 4910-59-P